GULF COAST ECOSYSTEM RESTORATION COUNCIL

[Docket No.: 108292017-1111-16]

Proposed Amendment to Initial (2015) Funded Priorities List

AGENCY: Gulf Coast Ecosystem Restoration Council.

ACTION: Proposed amendment to Initial Funded Priorities List.

SUMMARY: The Gulf Coast Ecosystem Restoration Council (Council) seeks public and Tribal comment on a proposal to amend its Initial Funded Priorities List (FPL) to approve implementation funding for the Robinson Preserve Wetlands Restoration project (Robinson Preserve), Florida. The Council is proposing to approve $1,319,636 in implementation funding for Robinson Preserve. The Council is also proposing to reallocate $470,910 from planning to implementation. The total amount of funding available for implementation of Robinson Preserve would be $1,790,546. These funds would be used to restore 118.2 acres of coastal habitat, along with related activities in Tampa Bay. The Department of Commerce's National Oceanic and Atmospheric Administration (NOAA) is the sponsor of the Robinson Preserve project.

To comply with the National Environmental Policy Act (NEPA) and other applicable laws, the Council is proposing to adopt an existing 2015 Programmatic Environmental Impact Statement (PEIS) http://www.habitat.noaa.gov/pdf/NOAA_Restoration_Center_Final_PEIS.pdf developed by NOAA's Restoration Center and ensure compliance with the terms and conditions of a Clean Water Act (CWA) Section 404 permit that has been issued for the Robinson Preserve project. In so doing, the Council would expedite project implementation, reduce planning costs and potentially increase the ecological benefits of this project.

DATES: Comments on this proposed amendment are due September 29, 2017.

ADDRESSES: Comments on this proposed amendment may be submitted as follows:

By Email: Submit comments by email to frcomments@restorethegulf.gov. Email submission of comments ensures timely receipt and enables the Council to make them available to the public. In general, the Council will make such comments available for public inspection and copying on its Web site, www.restorethegulf.gov, without change, including any business or personal information provided, such as names, addresses, email addresses and telephone numbers. All comments received, including attachments and other supporting materials, will be part of the public record and subject to public disclosure. You should only submit information that you wish to make publicly available.

By Mail: Send comments to Gulf Coast Ecosystem Restoration Council, 500 Poydras Street, Suite 1117, New Orleans, LA 70130.

FOR FURTHER INFORMATION CONTACT: Please send questions by email to frcomments@restorethegulf.gov or contact John Ettinger at (504) 444-3522.

SUPPLEMENTARY INFORMATION:

I. Background

The Deepwater Horizon oil spill led to passage of the Resources and Ecosystems Sustainability, Tourist Opportunities, and Revived Economies of the Gulf Coast States Act of 2012 (RESTORE Act) (33 U.S.C. 1321(t) and note), which dedicates 80 percent of all Clean Water Act administrative and civil penalties related to the oil spill to the Gulf Coast Restoration Trust Fund (Trust Fund). The RESTORE Act also created the Council, an independent Federal entity comprised of the five Gulf Coast states and six Federal agencies. Among other responsibilities, the Council administers a portion of the Trust Fund known as the Council-Selected Restoration Component in order to “undertake projects and programs, using the best available science, that would restore and protect the natural resources, ecosystems, fisheries, marine and wildlife habitats, beaches, coastal wetlands, and economy of the Gulf Coast.” Additional information on the Council can be found here: https://www.restorethegulf.gov.

On December 9, 2015, the Council approved the FPL, which includes projects and programs approved for funding under the Council-Selected Restoration Component, along with other activities the Council identified as priorities for potential future funding. Activities approved for funding in the FPL are included in “Category 1;” the priorities for potential future funding are in “Category 2.” In the FPL the Council approved approximately $156.6 million in Category 1 restoration and planning activities, and prioritized twelve Category 2 activities for possible funding in the future, subject to environmental compliance and further Council and public review. The Council included planning activities for Robinson Preserve in Category 1 and implementation activities for Robinson Preserve in Category 2.

The Council reserved approximately $26.6 million for implementing priority activities in the future. These reserved funds may be used to support some, all or none of the activities included in Category 2 of the FPL and/or to support other activities not currently under consideration by the Council. As appropriate, the Council intends to review each activity in Category 2 in order to determine whether to: (1) Move the activity to Category 1 and approve it for funding, (2) remove it from Category 2 and any further consideration, or (3) continue to include it in Category 2. A Council decision to amend the FPL to move an activity from Category 2 into Category 1 must be approved by a Council vote after consideration of public and Tribal comments.

II. Environmental Compliance

Prior to approving an activity for funding in FPL Category 1, the Council must comply with NEPA and other applicable Federal environmental laws. At the time of approval of the FPL, the Council had not addressed NEPA and other laws applicable to implementation of Robinson Preserve. The Council did, however, recognize the potential ecological value of Robinson Preserve, based on the review conducted during the FPL process. For this reason, the Council approved $470,910 in planning funds for Robinson Preserve, a portion of which would be used to complete any needed environmental compliance activities. As noted above, the Council placed the implementation portion of Robinson Preserve into FPL Category 2, pending the outcome of this environmental compliance work and further Council review. The estimated cost of implementation of Robinson Preserve was $1,319,636.

To comply with NEPA for Robinson Preserve, the Council is proposing to adopt the 2015 PEIS developed by NOAA's Restoration Center. This PEIS addresses a range of restoration types including those in the Robinson Preserve implementation funding proposal. NOAA has determined that the specific implementation activities for which funding is being sought are fully covered by this PEIS, and therefore no further NEPA review would be needed.

On May 22, 2017, the U.S. Army Corps of Engineers issued a Clean Water Act (CWA) Section 404 permit for the Robinson Preserve project. NOAA has confirmed that this permit addresses its Magnuson-Stevens Act recommendations pertaining to Essential Fish Habitat. The permit also contains conditions pertaining to compliance with the Endangered Species Act and the National Historic Preservation Act. In addition, the Florida State Historic Preservation Officer and U.S. Fish and Wildlife Service have reviewed the overall Robinson Preserve project. These reviews were conducted as part of their respective reviews of a smaller Robinson Preserve restoration project which is sponsored by the Environmental Protection Agency (EPA) and is being funded separately under the Council-Selected Restoration Component.

The Council has reviewed the aforementioned environmental compliance documentation. Based on this review, the Council is proposing to adopt the PEIS to support the approval of implementation funds for Robinson Preserve, provided that the project is implemented in accordance with the terms and conditions of the CWA Section 404 permit. This permit and the associated documentation can be found here: https://www.restorethegulf.gov/funded-priorities-list. (See: Robinson Preserve Wetlands Restoration—Implementation.)

Robinson Preserve Project

If approved by the Council, the funds to implement Robinson Preserve would be used to create habitat and natural flow regimes through hydrologic connections, as well as complete exotic and invasive vegetation removal, native planting, monitoring, community outreach, restoration practitioner education, and an inventory of potential Tampa Bay watershed hydrologic restoration projects.

The Initial FPL describes Robinson Preserve as a project to restore 140-acres of upland and wetland habitat (85 acres of upland habitat and 55 acres of created wetland and sub-tidal habitats). The actual acreage to be restored under this proposed FPL amendment would be 118.2 acres (57.6 acres of coastal upland habitat and 60.6 acres of wetland, open water sub-tidal, and open freshwater habitats). This acreage adjustment is the result of refinements in project design (in response to public input) and subtraction of acreage being restored through the complementary EPA restoration effort referenced above. The project design was reduced by 7 acres to balance public access interests, input from nearby residents and habitat suitability. The remainder of the acreage adjustment for this Robinson Preserve funding request is 14.8 acres, which is the amount of adjoining acreage that will be restored by the EPA.

While the acreage footprint of NOAA's Robinson Preserve project has decreased, the complexity and per unit cost of the project have increased. To maintain the long-term viability of the restoration design and protect existing habitats, the scope of the hydrologic restoration expanded to include more complex connections. The expanded scope also provides added benefits outside of the restoration footprint by integrating and hydrologically interconnecting the entire 632-acre preserve. NOAA has indicated that these changes, make up more than one third of the restoration implementation budget, increasing the wetland and sub-tidal creation cost per acre for the project. The total of $1,790,546 will be needed to implement this project.

Additional information on Robinson Preserve, including metrics of success, response to science reviews and more is available in an activity-specific appendix to the FPL, which can be found at https://www.restorethegulf.gov. Please see the table on page 25 of the FPL and click on: Robinson Preserve Wetlands Restoration (Implementation).

Will D. Spoon,
Program Analyst, Gulf Coast Ecosystem Restoration Council.

[FR Doc. 2017-18334 Filed 8-29-17; 8:45 am]

BILLING CODE 6560-58-P